DEPARTMENT OF JUSTICE

Notice of Lodging of Proposed Consent Decree Under the Clean Air Act

On February 13, 2024, the Department of Justice lodged a proposed consent decree with the United States District Court for the District of New Mexico in the lawsuit entitled United States of America and New Mexico Environment Department v. Apache Corporation, Civil Action No. 24-cv-00149.

In this action, the United States, on behalf of the U.S. Environmental Protection Agency, and the New Mexico Environment Department filed a complaint alleging that Apache Corporation (“Defendant”) violated the Clean Air Act, the New Mexico Air Quality Control Act, their implementing regulations, and the Texas State Implementation Plan at 23 of Defendant's oil and natural gas production facilities in New Mexico and Texas by failing to comply with requirements of the Federal New Source Performance Standards set forth at 40 CFR part 60, subpart OOOO and OOOOa, and failing to operate its facilities in accordance with applicable permits, namely, the New Mexico General Construction Permit for Oil and Gas Facilities and the Texas Commission on Environmental Quality Permit by Rule and Standard Permit. The complaint seeks an Order enjoining Defendant from further violating applicable requirements and requiring Defendant to remedy, mitigate, and offset the harm to public health and the environment caused by the violations and to pay a civil penalty.

Under the proposed settlement, Defendant agrees to pay a civil penalty of $4,000,000 and to perform a project that will offset the excess emissions resulting from the violations. In addition, the settlement requires the Defendant to ensure ongoing compliance with all applicable regulatory requirements at 422 of its oil and natural gas production facilities in New Mexico and Texas. Specifically, the settlement requires the Defendant to undertake a field survey to identify and remedy any compromised equipment, to undertake a design analysis to ensure adequate design and sizing of the vapor control system, to install and operate extensive monitoring systems, to implement a robust inspection and maintenance program, and to hire an independent third party to verify compliance.

The publication of this notice opens a period for public comment on the proposed consent decree. Comments should be addressed to the Assistant Attorney General, Environment and Natural Resources Division, and should refer to United States and New Mexico Environment Department v. Apache Corporation, D.J. Ref. No. 90-5-2-1-12523. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter. During the public comment period, the proposed consent decree may be examined and downloaded at this Justice Department website: http://www.justice.gov/enrd/consent-decrees. If you require assistance accessing the proposed consent decree, you may request assistance by email or by mail to the addresses provided above for submitting comments.

Thomas Carroll,
Assistant Section Chief, Environmental Enforcement Section, Environment and Natural Resources Division.

[FR Doc. 2024-03293 Filed 2-15-24; 8:45 am]

BILLING CODE 4410-15-P